DEPARTMENT OF HEALTH AND HUMAN SERVICES

Agency for Toxic Substances and Disease Registry

[Docket No. ATSDR-2022-0005]

Proposed Substances To Be Evaluated for Toxicological Profile Development

AGENCY: Agency for Toxic Substances and Disease Registry (ATSDR), Department of Health and Human Services (HHS).

ACTION: Notice with comment period.

SUMMARY: The Agency for Toxic Substances and Disease Registry (ATSDR) within the Department of Health and Human Services is initiating the development of another set of Toxicological Profiles. This notice solicits public nominations of substances for ATSDR to evaluate for Toxicological Profile development.

DATES: All nominations, whether for substances on the Substance Priority List or for other substances, must be received by August 8, 2022.

ADDRESSES: You may submit nominations, identified by Docket No. ATSDR-2022-0005, by either of the following methods:

• Federal eRulemaking portal at www.regulations.gov. Follow the instructions for submitting comments.

• Mail: Office of Innovation and Analytics, Agency for Toxic Substances and Disease Registry, 4770 Buford Highway, Mail Stop S102-1, Atlanta, GA 30341-3717. Attn: Docket No. ATSDR-2022-0005.

Instructions: All submissions must include the agency name and docket number for this notice. All relevant comments will be posted without change to http://www.regulations.gov, including any personal information provided. Do not submit comments by email. ATSDR does not accept comments by email. This means that no confidential business information or other confidential information should be submitted in response to this notice. Refer to the Submission of Nominations section (below) for the specific information required to be included in a nomination.

FOR FURTHER INFORMATION CONTACT: Kambria Haire, Office of Innovation and Analytics, Agency for Toxic Substances and Disease Registry, 1600 Clifton Rd. NE, Mail Stop S102-1, Atlanta, GA 30329-4027; Email: ATSDRToxProfileFRNs@cdc.gov; Phone: 1-800-232-4636.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) concerning hazardous substances most commonly found at facilities on the CERCLA National Priorities List (NPL) (https://www.epa.gov/superfund/superfund-national-priorities-list-npl). Among these statutory requirements is a mandate for the Administrator of ATSDR to prepare Toxicological Profiles for each substance included on the Priority List of Hazardous Substances, also known as the Substance Priority list (SPL). This list identifies 275 hazardous substances found at NPL sites that ATSDR and EPA have determined currently pose the most significant potential threat to human health.

Substances To Be Evaluated for Toxicological Profile Development

Each year, ATSDR develops a list of substances to be considered for Toxicological Profile development. The nomination process includes consideration of all substances on ATSDR's SPL, as well as other substances nominated by the public. For more information on ATSDR's SPL, visit https://www.atsdr.cdc.gov/SPL/.

Submission of Nominations for Toxicological Profile Development

Today's notice invites voluntary public nominations of substances for toxicological profile development. If nominating a substance that is not on the SPL, please include the rationale for the nomination and any supporting data. ATSDR will evaluate data and information associated with nominated substances and will determine the final list of substances to be chosen for Toxicological Profile development. Substances will be chosen according to ATSDR's specific guidelines for selection. These guidelines can be found in the Selection Criteria, which may be accessed at https://www.atsdr.cdc.gov/toxprofiles/guidance/ATSDR_TP_Selection%20Criteria.pdf.

Pamela I. Protzel Berman,
Associate Director, Office of Policy, Planning and Partnerships, Agency for Toxic Substances and Disease Registry.

[FR Doc. 2022-14590 Filed 7-7-22; 8:45 am]

BILLING CODE 4163-70-P